DEPARTMENT OF LABOR

Employment and Training Administration

[TA-W-71,045]

Bayer Material Science, LLC, Formally Known as Sheffield Plastics, Including On-Site Leased Workers from Randstadt Work Solutions, Berlin, CT; Amended Certification Regarding Eligibility To Apply for Worker Adjustment Assistance

In accordance with section 223 of the Trade Act of 1974, as amended (“Act”), 19 U.S.C. 2273, the Department of Labor issued a Certification of Eligibility to Apply for Worker Adjustment Assistance on January 8th, 2010, applicable to workers of Bayer Material Science, LLC, formally known as Sheffield Plastics, including on-site leased workers from Randstadt Work Solutions, Berlin, Connecticut. The notice was published in the Federal Register on January 25, 2010 (75 FR 3934).

At the request of the State Agency, the Department reviewed the certification for workers of the subject firm. The workers produced polycarbonate film products.

Information shows that Bayer Material Science, LLC was formally known as Sheffield Plastics. Some workers separated from employment at the subject firm had their wages reported under two separate unemployment insurance (UI) tax account under the name Bayer Material Science, LLC, formally known as Sheffield Plastics.

Accordingly, the Department is amending this certification to property reflect this matter.

The intent of the Department's certification is to include all workers of the subject firm who were adversely affected by a shift in production of polycarbonate film products to Thailand.

The amended notice applicable to TA-W-71,045 is hereby issued as follows:

All workers of Bayer Material Science, LLC, formally known as Sheffield Plastics, including on-site leased workers from Randstadt Work Solutions, Berlin, Connecticut, who became totally or partially separated from employment on or after June 5, 2008 through January 8, 2012, and all workers in the group threatened with total or partial separation from employment on date of certification through two years from the date of certification, are eligible to apply for adjustment assistance under Chapter 2 of Title II of the Trade Act of 1974, as amended.

Signed at Washington, DC this 22nd day of March 2010.
Michael W. Jaffe,
Certifying Officer, Division of Trade Adjustment Assistance

[FR Doc. 2010-7327 Filed 3-31-10; 8:45 am]

BILLING CODE 4510-FN-P